DEPARTMENT OF DEFENSE

Office of the Secretary

[Transmittal No. 17-15]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Kathy Valadez, (703) 697-9217 or Pamela Young, (703) 697-9107; DSCA/DSA-RAN.

The following is a copy of a letter to the Speaker of the House of Representatives, Transmittal 17-15 with attached Policy Justification and Sensitivity of Technology.

Dated: May 3, 2017.
Aaron Siegel,
Alternate OSD Federal Register Liaison Officer, Department of Defense.

BILLING CODE 5001-06-P

BILLING CODE 5001-06-C

Transmittal No. 17-15

Notice of Proposed Issuance of Letter of Offer Pursuant to Section 36(b)(1) of the Arms Export Control Act, as amended

(i) Prospective Purchaser: Government of Greece

(ii) Total Estimated Value:

Major Defense Equipment * | $34 million
Other | $46 million
Total | $80 million

(iii) Description and Quantity or Quantities of Articles or Services under Consideration for Purchase:

Major Defense Equipment (MDE):

Five (5) CH-47D Aircraft

Seven (7) Common Missile Warning Systems (CMWS) (one (1) for each aircraft plus two (2) spares)

Twelve (12) T55-GA-714A Turbine Engines (two (2) for each aircraft plus two (2) spares)

Non-MDE includes: Also under consideration for this sale is mission equipment, communications and navigation equipment, ground support equipment, special tools and test equipment, spares, publications, Maintenance Work Order/Engineering Change Proposals (MWO/ECPs), technical support, and training, and other associated support equipment and services.

(iv) Military Department: Army

(v) Prior Related Cases, if any: GR-B-JBK, GR-B-XMH

(vi) Sales Commission, Fee, etc., Paid, Offered, or Agreed to be Paid: None

(vii) Sensitivity of Technology Contained in the Defense Article or Defense Services Proposed to be Sold: See Attached Annex

(viii) Date Report Delivered to Congress: April 27, 2017

* As defined in Section 47(6) of the Arms Export Control Act.

POLICY JUSTIFICATION

Government of Greece—CH-47D Helicopters

The Government of Greece requested the possible sale of five (5) CH-47D helicopters, seven (7) Common Missile Warning Systems (CMWS) (one (1) for each aircraft plus two (2) spares), and twelve (12) T55-GA-714A turbine engines (two (2) for each aircraft plus two (2) spares). Also included are mission equipment, communications and navigation equipment, ground support equipment, special tools and test equipment, spares, publications, Maintenance Work Order/Engineering Change Proposals (MWO/ECPs), technical support, and training, and other associated support equipment and services. The total estimated cost is $80 million.

This proposed sale will enhance the foreign policy and national security objectives of the United States by helping to improve the security of a NATO ally that has been, and continues to be, an important force for political stability and economic progress. Greece intends to use these defense articles and services to modernize its armed forces by increasing its rotary-wing transport capability. This will contribute to the Greek military's goal to upgrade its capability while further enhancing greater interoperability between Greece, the U.S. and other allies.

The proposed sale of this equipment and support does not alter the basic military balance in the region.

There is no principal contractor as the systems will be coming from U.S. Army stocks. There are no known offset agreements proposed in connection with this potential sale.

Implementation of this proposed sale will require U.S. Government or contractor representatives to travel to Greece for equipment de-processing/fielding, system checkout and new equipment training.

There will be no adverse impact on U.S. defense readiness as a result of this proposed sale.

Transmittal No. 17-15

Notice of Proposed Issuance of Letter of Offer Pursuant to Section 36(b)(1) of the Arms Export Control Act

Annex

Item No. vii

(vii) Sensitivity of Technology:

1. The CH-47D is a medium lift aircraft, remanufactured from CH-47A, B, and C aircraft. The CH-47D aircraft, which includes two T55-GA-714A turbine engines, has been identified as Major Defense Equipment (MDE). The avionic system in the CH-47D helicopter consists of the communications equipment providing HF (AN/ARC-220), VHF AM/FM (AN/ARC-186) and UHF-AM (AN/ARC-164) communications. The voice secure equipment consists of the TSEC/KY-58 and the TSEC/KY-100. The navigation equipment includes ADF (AN/ARN-89 or 149, VOR ILS Marker Beacon, (AN/ARN-123, Doppler/GPS (AN/ASN-128, Tactical Air Navigation (TACAN) System AN/ARN-154(V), VGH FM Homing (AN/ARC-201D) is provided through the FM communication radio. Transponder equipment (AN/APX-118) consists of an IFF receiver with inputs from the barometric altimeter for altitude encoding. The AN/APX-118 and AN/APX-118A transponder is classified SECRET if Mode 4, or Mode 5 fill is installed in the equipment with a crypto device. Mission equipment consists of the radar signal detecting set, (AN/APR-39A(V)1) and the Common Missile Warning System (CMWS) (AN/AAR-57). The AN/APR-39 Series Radar Warning Receiver sets are sensitive items are classified SECRET if the Unit Data Module has threat data software installed. The software for this system determines the classification. Normally a customer has specific software developed to meet their requirements.

2. All defense articles and services listed in this transmittal have been authorized for release and export to Greece.

3. A determination has been made that the Government of Greece can provide the same degree of protection for the sensitive technology being released as the U.S. Government. The sale is necessary in furtherance of the U.S. foreign policy and national security objectives as outlined in the Policy Justification of the notification.

[FR Doc. 2017-09231 Filed 5-5-17; 8:45 am]

BILLING CODE 5001-06-P